GENERAL SERVICES ADMINISTRATION

[Notice-MK-2013-11; Docket No. 2013-0002; Sequence No. 36]

The Presidential Commission on Election Administration (PCEA); Upcoming Public Advisory Meeting

AGENCY: Office of Government-Wide Policy, U.S. General Services Administration (GSA).

ACTION: Meeting Notice.

SUMMARY: The Presidential Commission on Election Administration (PCEA), a Federal Advisory Committee established in accordance with the Federal Advisory Committee Act (FACA), 5 U.S.C., App., and Executive Order 13639, as amended by EO 13644, will hold a meeting open to the public on Tuesday, December 3, 2013.

DATES: The meeting will be held on Tuesday, December 3, 2013, beginning at 9:00 a.m. Eastern Standard Time, and ending no later than 12:00 p.m. Eastern Standard Time with no public comment period.

ADDRESSES: The PCEA will convene its meeting in the Ronald Reagan Building, 1300 Pennsylvania Ave NW., Washington, DC 20004. This site is accessible to individuals with disabilities. The meeting may also be webcast or made available via audio link. Please refer to PCEA's Web site, http://www.supportthevoter.gov, for the most up-to-date meeting agenda and access information.

SUPPLEMENTARY INFORMATION: Background: The PCEA was established to identify best practices and make recommendations to the President on the efficient administration of elections in order to ensure that all eligible voters have the opportunity to cast their ballots without undue delay, and to improve the experience of voters facing other obstacles in casting their ballots.

Attendance at the Meeting: Individuals interested in attending the meeting must register in advance because of limited space. Please contact Mr. Nejbauer at the email address above to register to attend this meeting. To attend this meeting, please submit your full name, organization, email address, and phone number to Mark Nejbauer by 5:00 p.m. Eastern Standard Time on Friday, November 29, 2013. Detailed meeting minutes will be posted within 90 days of the meeting.

Procedures for Providing Public Comments: In general, public comments will be posted on the PCEA Web site (see above). All comments, including attachments and other supporting materials, received are part of the public record and subject to public disclosure. Any comments submitted in connection with the PCEA meeting will be made available to the public under the provisions of the Federal Advisory Committee Act.

The public is invited to submit written materials by either of the following methods:

Electronic or Paper Statements: Submit electronic statements to Mr. Nejbauer, Designated Federal Officer at mark.nejbauer@supportthevoter.gov; or send three (3) copies of any written statements to Mr. Nejbauer at the PCEA GSA address above.

FOR FURTHER INFORMATION CONTACT: Mr. Mark Nejbauer, Designated Federal Officer, General Services Administration, Presidential Commission on Election Administration, 1776 G Street NW., Washington, DC 20006, email mark.nejbauer@supportthevoter.gov.

Dated: November 14, 2013.
Anne Rung,
Associate Administrator, Office of Government-Wide Policy, General Services Administration.

[FR Doc. 2013-27675 Filed 11-18-13; 8:45 am]

BILLING CODE 6820-14-P